DEPARTMENT OF DEFENSE

Department of the Army; Corps of Engineers

Board on Coastal Engineering Research

AGENCY: Department of the Army, DoD.

ACTION: Notice of meeting.

SUMMARY: In accordance with Section 10(a)(2) of the Federal Advisory Committee Act (Pub. L. 92-463), announcement is made of the following committee meeting:

Name of Committee: Board on Coastal Engineering Research.

Date of Meeting: September 23-25, 2008.

Place: Pavilion Ballroom, Hilton Portland and Executive Tower, 921 SW 6th Avenue, Portland, OR 97204.

Time: 8 a.m. to 5 p.m. (September 23, 2008); 8 a.m. to 5:30 p.m. (September 24, 2008); 8 a.m. to 5 p.m. (September 25, 2008).

FOR FURTHER INFORMATION CONTACT: Inquiries and notice of intent to attend the meeting may be addressed to Mr. Thomas W. Richardson, Acting Executive Secretary, Coastal and Hydraulics Laboratory, U.S. Army Engineer Research and Development Center, Waterways Experiment Station, 3909 Halls Ferry Road, Vicksburg, MS 39180-6199.

SUPPLEMENTARY INFORMATION: The Board provides broad policy guidance and review of plans and fund requirements for the conduct of research and development of research projects in consonance with the needs of the coastal engineering field and the objectives of the Chief of Engineers.

Proposed Agenda: The goal of the meeting is to further the understanding of how a “Systems Approach” to coastal protection can be practically implemented throughout the Corps by focusing on systems-based activities in the Pacific Northwest. The morning session on Tuesday, September 23, will consist of a presentation on the Board's Initiatives on Systems Approach to Coastal Management, panel presentations on Systems Approach in R&D (System-wide Technologies, System-wide Coastal Modeling, and Coastal Infrastructure and Asset Management), panel presentations on the Update on the Board's Coastal Study/Demonstration Initiatives (Coastal Field Data Collection Program and Coastal Data Information Program and the National Shoreline Management Study), and a presentation on the Retrospective on the Evolution of the Corps and the Coastal System. The afternoon session will include panel presentations on four major themes of the Actions for Change (System-Based Approaches, Managing Risk, Communicating Risk, and Improving Professional and Technical Expertise). The afternoon session will also include panel presentations dealing with Managing and Communicating Risk (Coastal Infrastructure Management, Operating Constraints and Performance Thresholds at Coastal Ports, Hazard Mitigation Assistance and Risk Analysis, and Communicating Coastal Natural Hazards and How Science Can Help Residents to Avoid or Mitigate Risks). The morning session on Wednesday, September 24, will consist of panel presentations dealing with Changing Northwest Pacific Climate (Northwest Regional Climate Model Predictions—Sea Level, Storm Winds and Waves, Snow Pack and Rainfall; Trends in Storm Power and “Infragravity Surge” on the Oregon Coast and the Impacts on the Life Cycles of Coastal Infrastructures; and Ocean Monitoring and Prediction Activities in the Pacific Northwest: The Present and Future of IOOS-NANOOS and of the National Science Foundation Science and Technology Center for Coastal Margin Observation and Prediction) and panel presentations dealing with the Mouth of the Columbia River—Regional Sediment Management (RSM) and Major Rehabilitation Issues (Overview of the Southwest Washington Coastal Erosion Study and the Segue to RSM-related Activities around the Mouth of the Columbia River; Overview of the Historical and Ongoing Changes around the North and South Jetties at the Mouth of the Columbia River; Challenges of Combining Science, Policy, and Local Needs and Evolution of Thought; and Challenges in Maintaining our Large Coastal Navigation Structures and Sediment-Nourished Shoals). The afternoon panel sessions will discuss Willapa Bay and Grays Harbor Long-Term Management Strategy (Willapa Bay, WA: Making Sense of Morphologic Trends; Wallapa Bay, WA: MORPHOS Validation, District Involvement is a Win-Win; and Grays Harbor, WA: Risk-Based Decision Making—Challenges and Benefits) and System-Based Approach—West Coast Issues and Applications (Western States Watershed Study; Headquarters, District, and Partner Perspectives on Project vs. System Budget Challenges; and West Coast Governors' Agreement on Ocean Health). Thursday morning, September 25, is devoted to a bus field trip for general attendees and a Board helicopter tour. The afternoon is devoted to a Board Executive Session to discuss ongoing initiatives and actions.

These meetings are open to the public. Participation by the public is scheduled for 4:30 p.m. on Wednesday, September 24.

The entire meeting and field trip are open to the public, but since seating capacity is limited, advance notice of attendance is required. Oral participation by public attendees is encouraged during the time scheduled on the agenda; written statements may be submitted prior to the meeting or up to 30 days after the meeting.

Thomas W. Richardson,
Director, Coastal and Hydraulics Laboratory, Acting Executive Secretary.

[FR Doc. E8-20358 Filed 9-2-08; 8:45 am]

BILLING CODE 3710-61-P